DEPARTMENT OF AGRICULTURE

Forest Service

Siuslaw National Forest; Oregon; Oregon Dunes NRA Management Area 10 (C) Route and Area Designation

AGENCY: Forest Service, USDA.

ACTION: Notice of intent to prepare an environmental impact statement.

SUMMARY: The U.S. Forest Service will prepare an environmental impact statement (EIS) to amend the 1990 Siuslaw National Forest Land and Resources Management Plan (as amended by the 1994 Oregon Dunes Plan) in order to:

(1) Designate Off Highway Vehicle (OHV), also called Off Road Vehicle (ORV) routes within Management Area (MA) 10 (C) of the Oregon Dunes National Recreation Area (ODNRA) beyond the three year timeframe identified in the Plan;

(2) modify the boundaries of some areas currently zoned MA 10 (C) to MA 10 (B), in order to meet the management objectives of MA 10 (B); and

(3) designate the Banshee Hill route as a site specific exception within the 10 (C) Management Area.

Management Area 10 (C) requires that OHVs be operated only on designated routes, while Management Area 10 (B) allows OHVs to be operated anywhere within the area. This document is being prepared under the following authority: 40 CFR 1501.7 and 40 CFR 1508.22.

DATES: Comments concerning the scope of the analysis must be received by 30 days from date of publication in the Federal Register. The draft environmental impact statement is expected December 2011 and the final environmental impact statement is expected May 2012.

ADDRESSES: Send written comments to Siuslaw National Forest, 855 Highway 101, Reedsport, OR 97467 Attention: Angie Morris, Team Lead. Comments may also be sent via e-mail to comments-pacificnorthwest-siuslaw-centralcoast@fs.fed.us or via facsimile to 541-271-6034.

FOR FURTHER INFORMATION CONTACT: Angie Morris, Recreation Planner, (541) 271-6040.

Individuals who use telecommunication devices for the deaf (TDD) may call the Federal Information Relay Service (FIRS) at 1-800-877-8339 between 8 a.m. and 8 p.m., Eastern Time, Monday through Friday.

SUPPLEMENTARY INFORMATION: In 1994, the Oregon Dunes Plan amended Siuslaw National Forest Plan direction for the Oregon Dunes National Recreation Area (ODNRA). The Plan allocated eleven Management Areas (MAs) within the ODNRA. One of the allocations is MA 10 (C), wherein ORVs are Restricted to Designated Routes. The Plan specifies that MA 10 (C) be managed to “protect vegetated habitats while providing controlled opportunities for Off Road Vehicles (ORV) touring and traveling on designated routes.” The Plan further states that the goal for this management area is “to minimize ORV impacts on vegetated areas while allowing controlled opportunities for riding and travel through the area on designated routes for access to the beach and other areas which are open for ORV use.” Approximately 4,445 acres are currently designated MA 10 (C).

With few exceptions, the routes originally designated with Plan approval and those designated prior to 1997 have remained the only officially designated routes in MA 10 (C). The incompleteness of the existing route system plus the lack of adequate signing and formal closure orders for most areas allocated MA 10 (C) permitted and, to a degree, encouraged the continued use of undesignated routes and the establishment of additional user-developed routes. As a result, the majority of existing routes traveled by OHVs within MA 10 (C) today are not designated routes. This has in turn led to greater and unnecessary impacts to important plant communities within the MA 10 (C) areas. The current effort is aimed at providing adequate OHV access and reasonable, enjoyable connections between valued riding areas while minimizing impacts to adjacent and intervening plant communities and habitat areas.

Purpose and Need for Action

The primary purpose and need for the project is to complete the designation and development of a comprehensive, understandable designated OHV route system within MA 10 (C) areas of the ODNRA as foreseen and directed by the Oregon Dunes Plan. Designation of additional routes to enhance already-existing designated routes and create a comprehensive, understandable system, coupled with enhanced route signing, subsequent rider education, unauthorized route closure under provisions at 36 CFR part 212, and strong enforcement:

→ Will simplify and facilitate OHV rider access through various parts of MA 10 (C) areas that are currently difficult to understand and navigate on the ground;

→ Will thereby encourage user acceptance of and compliance with designated route requirements in MA 10 (C) areas;

→ Will discourage use of unauthorized user-developed routes allowing them, in turn, to be rehabilitated or to revert naturally to a more natural condition;

→ Will simplify OHV management within MA 10 (C), allowing agency personnel to focus more on visitor education, resource restoration and strong enforcement against those who would persist in using unauthorized routes.

A secondary purpose and need for the project is to correct OHV management inconsistencies arising from minor mapping errors between 10 (C) and 10 (B) that date back to the original aerial photo interpretation and vegetation typing done for the 1994 Dunes Plan. Some small areas totaling about 287 acres out of a total of about 10,400 acres allocated for OHV use were erroneously allocated to MA 10 (C). In actuality, they were subsequently found on the ground to better meet the appearance, conditions and management objectives of MA 10 (B). Managing areas differently that appear the same on the ground, but are allocated as different management areas is problematic for visitor understanding, education efforts and enforcement. The criteria for changing areas from MA 10 (C) to MA 10 (B) include the ratio of open sand to vegetation, the existence of designated dispersed sand camps, and the predominance of non-native, invasive vegetation (i.e. Scotch broom and/or European beachgrass) over native non-invasive species. Non-native, invasive species, such as Scotch broom and European beachgrass do not need to be protected from impacts by OHVs.

Proposed Action

Within the Oregon Dunes National Recreation Area MA 10 (C), the Siuslaw National Forest proposes a non-significant Plan amendment to designate an additional ten routes open to motorized vehicles totalling approximately 3.96 miles. Nine of the ten proposed routes already exist on the ground as historic, user-developed routes and will involve no new construction or ground disturbance. One new route of approximately 0.62 miles would be constructed to replace a currently designated route that would be closed because it is impassible due to high water most of the year. Under provisions at 36 CFR part 212, existing user-developed routes not designated under this action would by definition be closed to future motorized use and would be obliterated or allowed to naturally revert. Approximately 103 miles of unathorized user-developed routes would be closed and eventually naturalized by this action. The project would also modify Management Area boundaries, changing approximately 287 acres, encompassing about 32 miles of user-created routes, from MA 10 (C) to MA 10 (B) in order to meet the management objectives of MA 10 (B). This action results in no net gain or loss of acres managed for OHV use and does not affect any other management areas. Finally, the route commonly known as Banshee Hill in the Umpqua Dunes riding area will be designated. It will be a site specific exception to the criteria otherwise used for designating routes within the 10C area because it does not connect otherwise unconnected riding areas and it does not serve all vehicle classes, being restricted by steepness and width to Class 1 (quads) and Class 3 (motorcycles) vehicles. Prior decisions such as those made in the Plan to allocate large blocks of land as open or closed to motorized use, areas managed for habitat protection, etc. will not be revisited.

In summary, the proposed action amends the Dunes Management Plan to:

(1) Designate an additional 3.96 miles of OHV routes within the 10 (C) area beyond the 3 year standard and guideline timeframe identified in the Plan;

(2) modify some Management Area boundaries, changing 287 acres from MA 10 (C) to MA 10 (B);

(3) designate the route known as Banshee Hill as a site specific exception within Management Area 10 (C).

Possible Alternatives

The EIS will consider the following alternatives:

(1) A “No Action/No Change” Alternative, that would not designate additional routes or reallocate MA 10 (C) areas to MA 10 (B);

(2) The proposed action;

(3) Alternatives to the proposed action that are within the scope of the project, meet the purpose and need, are responsive to the comments received during the scoping period and are approved by the Forest Supervisor for consideration.

Responsible Official

The responsible official will be the Forest Supervisor of the Siuslaw National Forest.

Nature of Decision To Be Made

The decision to be made falls within the broad framework of the existing Forest Plan. The Forest Supervisor of the Siuslaw National Forest will decide whether to implement the action as proposed, whether to take no action at this time, or whether to implement any alternatives that are proposed. Proposed actions are believed to constitute non-significant amendments of the Forest Plan and are narrow in scope, dealing only with off highway vehicle riding areas (MAs 10 (C) and 10 (B)) at the Oregon Dunes NRA, an area comprising approximately 2% of the entire Siuslaw National Forest.

Preliminary Issues

(1) Designation of OHV routes in MA 10 (C) may cause adverse effects to natural resources, nearby residents and/or other recreational users of the 10 (C) area.

(2) Minor modifications of MA 10 (C) to MA 10 (B) and associated changes in OHV use of the area may cause adverse effects to natural resources, nearby residents and/or other recreation users of motorized use areas.

Scoping Process

This notice of intent initiates the scoping process, which guides the development of the environmental impact statement. Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied the agency will return the submission and notify the requester that the comments may be resubmitted with or without name and address within a specified number of days.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

A draft EIS will be filed with the Environmental Protection Agency (EPA) and available for public review by December 2011. The EPA will publish a Notice of Availability (NOA) of the draft EIS in the Federal Register. The comment period on the draft EIS will be 45 days from the date the EPA publishes the notice of availability in the Federal Register. The final EIS is scheduled to be available Summer 2012.

Dated: June 8, 2011.
Katherine Harbick,
Acting Siuslaw National Forest Supervisor.

[FR Doc. 2011-15917 Filed 6-23-11; 8:45 am]

BILLING CODE; P